NUCLEAR REGULATORY COMMISSION

[Docket No. 40-8905]

Notice of Availability of Environmental Assessment and Finding of No Significant Impact for Cell 2 Expansion Reclamation Plan License Amendment; Rio Algom Mining LLC, Ambrosia Lake, NM

AGENCY: Nuclear Regulatory Commission.

ACTION: Notice of availability.

FOR FURTHER INFORMATION CONTACT: Thomas McLaughlin, Project Manager, Materials Decommissioning Branch, Division of Waste Management and Environmental Protection, Office of Federal and State Materials and Environmental Management Programs, U.S. Nuclear Regulatory Commission, Washington, DC, 20555. Telephone: (301) 415-5869; fax number: (301) 415-5369; e-mail: tgm@nrc.gov.

SUPPLEMENTARY INFORMATION:

I. Introduction

The Nuclear Regulatory Commission (NRC) proposes to issue a license amendment of Source Materials License No. SUA-1473 held by Rio Algom Mining LLC (Rio Algom/the licensee), to approve a Cell 2 Expansion Reclamation Plan for its uranium mill tailings site in Ambrosia Lake, New Mexico. The NRC has prepared an Environmental Assessment (EA) for this amendment in accordance with the requirements of 10 CFR Part 51, and has concluded that a Finding of No Significant Impact (FONSI) is appropriate. The amendment will be issued following the publication of this Notice.

The Ambrosia Lake site is in the Ambrosia Lake mining district of New Mexico, 25 miles north of Grants, New Mexico. Rio Algom began processing ore in 1958, and processed approximately 33 million tons of ore through 1985. The site continued to be an active uranium production facility through December 2002. Site reclamation activities commenced in 1989 with some work on the top surface of the largest tailings cell. There are three tailings/waste cells situated adjacent to each other at the Rio Algom site: The large Tailings Cell 1, Tailings Cell 2 to the west of Cell 1, and a small Cell 3 east of Cell 1 that was used to dispose of contaminated windblown material. Reclamation of Cell 1 is complete, and cover construction of Cells 2 and 3 is still ongoing. Reclamation activities have at times included unlined evaporation pond residue excavation and disposal, contaminated windblown soil cleanup, tailings impoundment reclamation, surface water erosion protection feature construction, and mill building demolition.

The licensee has indicated that this proposed cell expansion design is one component of the overall site reclamation plan. The licensee previously has addressed, and NRC has approved, the remaining site-wide reclamation plan elements through separate licensing actions, including the original reclamation plan for Tailings Cells 1, 2, and 3 (approved in September 1990), mill demolition, relocation of lined evaporation pond sediments, soil decommissioning plan, and groundwater remediation.

II. EA Summary

In April 2005, Rio Algom sent the NRC a Reclamation Plan for disposal of evaporation pond sediments for its Ambrosia Lake uranium mill tailings facility. In a followup to the proposed plan, Rio Algom submitted, under letter dated May 31, 2007, Revision 1 of the plan and a response to NRC's request for additional information. The Uranium Mill Tailings Radiation Control Act of 1978, as amended, and regulations in Title 10 of the Code of Federal Regulations, Part 40 (10 CFR Part 40) require that material at uranium mill tailings sites be disposed of in a manner that protects human health and the environment.

Rio Algom proposes to excavate its lined evaporation ponds (Ponds 9 and 11 through 21), and place all the contaminated sediments, dikes, and underlying materials onto the existing Tailings Cell 2. The expanded Cell 2 will then be closed as part of the facility decommissioning plan. Rio Algom estimates that up to 3 million cubic yards of materials will be excavated, hauled, and compacted as part of this action. The reclamation of the expanded Tailings Cell 2 is intended to: (1) Control radiological hazards for 1,000 years to the extent reasonably achievable; (2) limit the release of radon-222 from uranium by-product, and radon-220 from thorium by-product materials to the atmosphere so as not to exceed an average of 20 pCi/m²/sec; (3) reduce direct gamma exposure from the reclaimed tailings cell to background levels; (4) avoid proliferation of small waste disposal sites; and (5) provide a final site that is geotechnically stable and provides protection of water resources for the long term.

The NRC staff has prepared the EA in support of the proposed license amendment. The New Mexico Environment Department was consulted during the EA preparation. The staff considered impacts that the licensee's amended Reclamation Plan will have on ground water, surface water, socioeconomic conditions, threatened and endangered species, transportation, land use, public and occupational health, and historic and cultural resources.

The EA supports a FONSI based on the following conclusions. The potential impacts of the proposed action are limited to the land surface and are temporary during the construction activity. The direct impacts to the surface primarily will be dust generation due to excavating material, hauling it to the disposal area, and working it at the disposal area. Fugitive dust from heavy equipment operation will be mitigated through the use of dust suppression methods on haul roads. Impacts at the expansion cell area itself are minimal, since the area is already disturbed from site reclamation activities. The licensee's implementation of its National Pollutant Discharge Elimination System (NPDES) permits, its Storm Water Pollution Prevention Plan for the site, its site Health, Safety and Environment Management System, and NRC license requirements provide adequate assurances to control impacts to the environment. Additional ambient air monitoring stations have been installed to collect data to demonstrate that control measures are implemented and effective.

III. Finding of No Significant Impact

On the basis of the EA, NRC has concluded that there are no significant environmental impacts from the proposed amendment, and there is no need to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
NUREG-1748, “Environmental Review Guidance for Licensing Actions Associated With NMSS Programs—Final Report,” Nuclear Regulatory Commission, Washington, DC | ML031000403 | April 10, 2003.
NUREG-1620, Rev. 1, “Standard Review Plan for Review of a Reclamation Plan for Mill Tailings Sites Under Title II of the Uranium Mill Tailings Radiation Control Act of 1978,” Nuclear Regulatory Commission, Washington, DC | ML040560561 | February 19, 2004.
Rio Algom Mining LLC, 2004, “Closure Plan-Lined Evaporation Ponds” | ML050240058 | November 1, 2004.
Rio Algom, 2005; Reclamation Plan for Disposal of Pond Sediments and Ancillary Materials, Tailings Cell 2 Expansion | ML051290050 | April 30, 2005.
Rio Algom 2007; Reclamation Plan for Disposal of Pond Sediments and Ancillary Materials, Tailings Cell 2 Expansion, Revision 1 | ML071790245 ML071790250 | May 31, 2007.
Environmental Assessment for the Tailings Cell 2 Expansion Reclamation Plan, Rio Algom Mining LLC's Uranium Mill Facility, Ambrosia Lake, New Mexico, Final Report | ML072670278 | September, 2007.

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1 F21, One White Flint North, 11555 Rockville Pike, Rockville, MD 20852. The PDR reproduction contractor will copy documents for a fee.

Dated at Rockville, Maryland, this 2nd day of November, 2007.
For the Nuclear Regulatory Commission.
Keith I. McConnell,
Deputy Director, Decommissioning and Uranium Recovery Licensing Directorate, Division of Waste Management and Environmental Protection, Office of Federal and State Materials and Environmental Management Programs.

[FR Doc. E7-22114 Filed 11-9-07; 8:45 am]

BILLING CODE 7590-01-P